ENVIRONMENTAL PROTECTION AGENCY

40 CFR Part 52

[EPA-HQ-OAR-2019-0611; FRL-10013-86-OAR]

RIN 2060-AU54

Implementation of the Revoked 1997 8-Hour Ozone National Ambient Air Quality Standards; Updates for Areas that Attained by the Attainment Date

AGENCY: Environmental Protection Agency (EPA).

ACTION: Proposed rule.

SUMMARY: The Environmental Protection Agency (EPA) is proposing updates to the Code of Federal Regulations (CFR) to codify its findings that nine areas in four states attained the revoked 1997 8-hour ozone National Ambient Air Quality Standards (herein referred to as the 1997 ozone NAAQS) by the applicable attainment dates. The parallel direct final rule is published in the “Rules and Regulations” section of this issue of the Federal Register because the Agency views this as a noncontroversial action. If no significant adverse comments are received on the direct final rule, then no further action will be taken on this proposal and the direct final rule will become effective as provided in that action.

DATES: Comments. Comments must be received on or before November 9, 2020. If the EPA receives significant comment on the proposed rule, the EPA will respond in writing to comments and include the written responses in any subsequent final rule based on the proposed rule. Public Hearing: If anyone contacts us requesting to speak at a public hearing by October 14, 2020, we will hold a public hearing. Additional information about the hearing, if requested, will be published in a subsequent Federal Register document and posted at https://www.epa.gov/stationary-engines/newsource-performance-standardsstationary-compression-ignitioninternal-0. See SUPPLEMENTARY INFORMATION for information on requesting and registering for a public hearing.

ADDRESSES: Comments: Submit your comments, identified by Docket ID No. EPA-HQ-OAR-2019-0611, at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the Web, Cloud or other file sharing system). For additional submission methods, the full EPA public comment policy, information about CBI or multimedia submissions, and general guidance on making effective comments, please visit http://www2.epa.gov/dockets/comments.html. Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov/ or email, as there may be a delay in processing mail and faxes. Hand deliveries and couriers may be received by scheduled appointment only. For further information on EPA Docket Center services and the current status, please visit us online at https://www.epa.gov/dockets.

FOR FURTHER INFORMATION CONTACT: Ms. Virginia Raps, Air Quality Policy Division, Office of Air Quality Planning and Standards, U.S. Environmental Protection Agency, Mail Code: C539-01, Research Triangle Park, NC 27711; telephone number (919) 541-4383; email address: raps.virginia@epa.gov.

To request a public hearing, contact Ms. Pam Long, U.S. EPA, Office of Air Quality Planning and Standards, Air Quality Policy Division (C504-01), Research Triangle Park, NC 27711; telephone number (919) 541-0641; email address: long.pam@epa.gov.

SUPPLEMENTARY INFORMATION:

I.

A. Does this action apply to me?

Entities potentially affected directly by this proposed action include the public seeking information on the air quality status of the subject areas, and State air agencies for which areas are found to attain by the attainment date.

B. What should I consider as I prepare my comments for the EPA?

When submitting comments, remember to:

• Identify the rulemaking docket by docket number and other identifying information (subject heading, Federal Register date, and page number).

• Follow directions. The proposed rule may ask you to respond to a specific question or organize comments by referencing a Code of Federal Regulations (CFR) part or section number.

• Explain why you agree or disagree, suggest alternatives and substitute language for your requested changes.

• Describe any assumptions and provide any technical information and data that you used to support your comment.

• If you estimate potential costs or burdens, explain how you arrived at your estimate in sufficient detail to allow for it to be reproduced.

• Provide specific examples to illustrate your concerns wherever possible and suggest alternatives.

• Explain your views as clearly as possible avoiding the use of profanity or personal threats.

• Make sure to submit your comments by the comment period deadline identified.

C. How can I find information about a possible hearing?

To request a public hearing or information pertaining to a public hearing regarding this document, contact Ms. Pam Long, OAQPS, U.S. EPA, at (919) 541-0641 or long.pam@epa.gov on or before October 14, 2020. Additional information about the hearing, if one is requested, will be published in a subsequent Federal Register document.

II. Direct Final Rule

Updates to 40 CFR part 52 are proposed by this notice exactly as given in the direct final rule, which is published in the Rules and Regulations section of this issue of the Federal Register. The EPA has published the updates to part 52 as a direct final action because the EPA views the updates as noncontroversial and anticipates no significant adverse comments. The EPA has explained its reasons for these updates in the direct final rule. If no significant adverse comments are received, no further action will be taken on this proposal, and the direct final rule will become effective as provided in that action.

If the EPA receives relevant adverse comments on the direct final rule, the EPA will publish a timely withdrawal of the direct final rule in the Federal Register. If the direct final rule in the Rules and Regulations section of this issue of the Federal Register is withdrawn, all comments received on this proposal will be addressed in a subsequent final rule. In such case, the EPA does not intend to institute a second comment period on the subsequent final action. Any parties interested in commenting should do so at this time. For details of the rationale for the proposal and the regulatory revisions, see the direct final rule published in the Rules and Regulations section of this issue of the Federal Register.

III. Statutory and Executive Order Reviews

For a complete discussion of the administrative requirements applicable to this proposed action, see the direct final rule in the Rules and Regulations section of this issue of the Federal Register.

List of Subjects In 40 CFR Part 52

Environmental protection, Administrative practice and procedure, Air pollution control, Designations and classifications, Incorporation by reference, Intergovernmental relations, Nitrogen oxides, Ozone, Reporting and recordkeeping requirements and Volatile organic compounds.

Andrew Wheeler,
Administrator.

[FR Doc. 2020-19560 Filed 10-8-20; 8:45 am]

BILLING CODE 6560-50-P